DEPARTMENT OF HEALTH AND HUMAN SERVICES

Health Resources and Services Administration

Agency Information Collection Activities: Proposed Collection: Public Comment Request; Information Collection Request Title: HRSA AIDS Drug Assistance Program Data Report, OMB No. 0915-0345—Extension

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than March 31, 2026.

ADDRESSES: Submit your comments to paperwork@hrsa.gov or mail the HRSA Information Collection Clearance Officer, Room 13N82, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: HRSA AIDS Drug Assistance Program (ADAP) Data Report, OMB No. 0915-0345 Extension

Abstract: HRSA's Ryan White HIV/AIDS Program (RWHAP) ADAP is authorized under Part B of the RWHAP statute, codified in sections 2611 to 2631 of the Public Health Service Act, which provides grants to U.S. states and territories. RWHAP ADAP is a state and territory administered program that provides Food and Drug Administration-approved medications to low-income people with HIV who have limited or no health coverage from private insurance, Medicaid, or Medicare. RWHAP ADAP funds may also be used to purchase health care coverage for eligible clients and for services that enhance access, adherence, and monitoring of drug treatments.

All 50 states, the District of Columbia, Puerto Rico, Guam, the U.S. Virgin Islands, and the five U.S. Pacific Territories or Associated Jurisdictions receive RWHAP Part B grant awards, including funds for RWHAP ADAP. RWHAP Part B requires the annual submission of an ADAP Data Report, which is composed of a Recipient Report and a Client Report. The Recipient Report is a collection of basic information about grant recipient characteristics and policies including program administration, purchasing mechanisms, funding, and expenditures. The Client Report is a collection of de-identified client-level records (one record for each client enrolled in RWHAP ADAP), which includes the client's encrypted unique identifier, basic demographic data, enrollment and certification information, details on medication and/or health care coverage assistance received (including associated costs), and HIV clinical information.

HRSA is not proposing any changes to the collection, and there are no anticipated changes in the reporting burden.

Need and Proposed Use of the Information: The RWHAP statute mandates the submission of a biennial report by the Secretary of HHS to the appropriate committees of Congress concerning the coordination of federal HIV programs across HHS (42 U.S.C. 300ff-81(b)). HRSA uses the ADAP Data Report to evaluate the national impact of RWHAP ADAP by providing deidentified client-level data on individuals being served, services being delivered, and costs associated with these services. The client-level data is used to assess the health outcomes of people with HIV receiving services through RWHAP ADAP, monitor the use of RWHAP ADAP funds in addressing the HIV epidemic and its impact on communities, and track progress toward achieving the goals identified in ending the HIV epidemic in the United States.

Likely Respondents: State ADAPs of RWHAP Part B recipients.

Burden Statement: Burden in this context means the time expended by persons to generate, maintain, retain, disclose, or provide the information requested. This includes the time needed to review instructions; to develop, acquire, install, and use technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Recipient Report | 54 | 1 | 54 | 6 | 324
Client Report | 54 | 1 | 54 | 81 | 4,374
Total | 54 |  | 54 |  | 4,698

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2026-01883 Filed 1-29-26; 8:45 am]

BILLING CODE 4165-15-P